DEPARTMENT OF COMMERCE

International Trade Administration

[A-570-112]

Certain Collated Steel Staples From the People's Republic of China: Preliminary Determination of No Shipments and Partial Rescission of Administrative Review; 2022-2023

AGENCY: Enforcement and Compliance, International Trade Administration, Department of Commerce.

SUMMARY: The U.S. Department of Commerce (Commerce) preliminarily determines that Zhejiang Best Nail Industrial Co., Ltd. and its affiliated exporter Shaoxing Bohui Import & Export Co., Ltd. (Best Nail/Shaoxing Bohui) made no shipments of subject merchandise during the period of review (POR) July 1, 2022, through June 30, 2023. In addition, we are rescinding the administrative review with respect to Shanghai Yueda Nail Co., Ltd. (Shanghai Yueda); Tianjin Hweschun Fasteners Manufacturing, Co., Ltd. (Tianjin Hweschun); Vina Hardwares Joint Stock Company (Vina Hardwares); YF Technology Corporation (Thailand) Ltd.; and YF Technology Corporation Limited because the requests for review for these companies were timely withdrawn. We invite interested parties to comment on these preliminary results.

DATES: Applicable April 3, 2024.

FOR FURTHER INFORMATION CONTACT: Brian Smith or Kate Johnson, AD/CVD Operations, Office VIII, Enforcement and Compliance, International Trade Administration, U.S. Department of Commerce, 1401 Constitution Avenue NW, Washington, DC 20230; telephone: (202) 482-1766 or (202) 482-4929, respectively.

SUPPLEMENTARY INFORMATION:

Background

On September 11, 2023, in accordance with 19 CFR 351.221(c)(1)(i), Commerce initiated an administrative review of the antidumping duty order on certain collated steel staples (staples) from the People's Republic of China (China) with respect to the following companies: Best Nail/Shaoxing Bohui; Shanghai Yueda; Tianjin Hweschun; Vina Hardwares; YF Technology Corporation (Thailand) Ltd.; and YF Technology Corporation Limited.¹ In accordance with the publication of the Initiation Notice, Commerce released data obtained from the U.S. Customs and Border Protection (CBP) with respect to entries of staples from China for the POR and invited comments on the data for respondent selection purposes.²

¹ See Initiation of Antidumping and Countervailing Duty Administrative Reviews, 88 FR 62322 (September 11, 2023) (Initiation Notice).

² See Memorandum, “Release of U.S. Customs and Border Protection Data,” dated September 15, 2023 (CBP Entry Data).

On October 4, 2023, Vina Hardwares timely withdrew its request for an administrative review.³ On October 11, 2023, Best Nail/Shaoxing Bohui submitted a no shipment claim for this POR segment.⁴ In response to a no-shipment inquiry Commerce issued to CBP, on October 25, 2024, CBP responded that it had no record of any subject entries for Best Nail/Shaoxing Bohui.⁵

³ See Vina Hardwares' Letter, “Withdrawal of Request for Administrative Review,” dated October 4, 2023.

⁴ See Best Nail/Shaoxing Bohui's Letter, “Submission of Statement of No Shipment,” dated October 11, 2023.

⁵ See Memorandum, “No Shipment Inquiry for Zhejiang Best Nail Industrial Co., Ltd. and Shaoxing Bohui Import & Export Co., Ltd. during the period 07/01/2022 through 06/30/2023,” dated November 6, 2023 (CBP No Shipment Memo). Prior to issuing our no-shipment inquiry to CBP and receiving CBP's response to that inquiry, we requested entry documentation for a certain entry in the CBP Entry Data that appeared to be associated with Best Nail/Shaoxing Bohui. We placed this entry documentation on the record of this review on January 19, 2024, and provided parties the opportunity to comment on the information. No party submitted comments.

On November 6, 2023, we selected Shanghai Yueda and Tianjin Hweschun as the mandatory respondents in this administrative review.⁶ We subsequently issued Commerce's antidumping duty questionnaire to these two companies.

⁶ See Memorandum, “Respondent Selection,” dated November 6, 2023.

On December 7 and 11, 2023, Shanghai Yueda and Tianjin Hweschun, respectively, withdrew their requests for administrative review.⁷ On December 11, 2023, Kyocera Senco Industrial Tools, Inc. (Kyocera Senco), a domestic producer of staples, withdrew its request for an administrative review of Tianjin Hweschun.⁸ On this same date, Black & Decker, a U.S. importer, withdrew its request for an administrative review of YF Technology Corporation (Thailand) Ltd. and YF Technology Corporation Limited.⁹

⁷ See Shanghai Yueda's Letter, “Withdrawal of Request for Administrative Review and Request for Suspension of Deadlines,” dated December 7, 2023; and Tianjin Hweschun's Letter, “Withdrawal of Request for Administrative Review,” dated December 11, 2023.

⁸ See Kyocera Senco's Letter, “Withdrawal of Request for Administrative Review,” dated December 11, 2023.

⁹ See Black & Decker's Letter, “Withdrawal of Request for Administrative Review, dated December 11, 2023.

Scope of the Order ¹⁰

¹⁰ See Certain Collated Steel Staples from the People's Republic of China: Antidumping Duty Order, 85 FR 43815 (July 20, 2020) (Order).

The merchandise covered by the scope of this Order is certain collated steel staples. Certain collated steel staples subject to this investigation are made from steel wire having a nominal diameter from 0.0355 inch to 0.0830 inch, inclusive, and have a nominal leg length from 0.25 inch to 3.0 inches, inclusive, and a nominal crown width from 0.187 inch to 1.125 inch, inclusive. Certain collated steel staples may be manufactured from any type of steel, and are included in the scope of this Order regardless of whether they are uncoated or coated, and regardless of the type or number of coatings, including but not limited to coatings to inhibit corrosion.

Certain collated steel staples may be collated using any material or combination of materials, including but not limited to adhesive, glue, and adhesive film or adhesive or paper tape.

Certain collated steel staples are generally made to American Society for Testing and Materials (ASTM) specification ASTM F1667-18a, but can also be made to other specifications.

Excluded from the scope of this Order are any carton-closing staples covered by the scope of the antidumping duty order on Carton-Closing Staples from the People's Republic of China. See Carton-Closing Staples from the People's Republic of China: Antidumping Duty Order, 83 FR 20792 (May 8, 2018).

Also excluded are collated fasteners commonly referred to as “C-ring hog rings” and “D-ring hog rings” produced from stainless or carbon steel wire having a nominal diameter of 0.050 to 0.081 inches, inclusive. C-ring hog rings are fasteners whose legs are not perpendicular to the crown, but are curved inward resulting in the fastener forming the shape of the letter “C”. D-ring hog rings are fasteners whose legs are straight but not perpendicular to the crown, instead intersecting with the crown at an angle ranging from 30 degrees to 75 degrees. The hog rings subject to the exclusion are collated using glue, adhesive, or tape. The hog rings subject to this exclusion have either a 90 degree blunt point or 15-75 degree divergent point.

Certain collated steel staples subject to this Order are currently classifiable under subheading 8305.20.0000 of the Harmonized Tariff Schedule of the United States (HTSUS). While the HTSUS subheading and ASTM specification are provided for convenience and for customs purposes, the written description of the subject merchandise is dispositive.

Rescission of Administrative Review, in Part

As discussed above, the review requests for Shanghai Yueda, Tianjin Hweschun, Vina Hardwares, YF Technology Corporation (Thailand) Ltd., and YF Technology Corporation Limited have all been withdrawn. Pursuant to 19 CFR 351.213(d)(1), Commerce will rescind an administrative review, in whole or in part, if the parties that requested a review withdraw their request within 90 days of the date of publication of the notice of initiation. Because no other parties requested a review of the above five companies, Commerce is rescinding this review, in part, with respect to these companies. As such, only Best Nail/Shaoxing Bohui remain under review.

Preliminary Determination of No Shipments

In the Initiation Notice, we instructed producers or exporters under review that had no exports, sales, or entries of subject merchandise during the POR to notify Commerce within 30 days of publication of the notice. As noted above, Best Nail/Shaoxing Bohui timely submitted a no-shipment certification. Based on an analysis of information from CBP, we preliminarily determine that the information on the record does not contradict Best Nail/Shaoxing Bohui's no- shipment certification.¹¹

¹¹ See CBP No Shipment Memo and Memorandum, “Placing CBP Entry Documents on the Record,” dated January 19, 2024.

Consistent with our practice in non-market economy (NME) cases, we are not rescinding this review with respect to Best Nail/Shaoxing Bohui but, rather, we intend to complete the review and issue appropriate instructions to CBP based on the final results of the review.¹²

¹² See Non-Market Economy Antidumping Proceedings: Assessment of Antidumping Duties, 76 FR 65694, 65694-95 (October 24, 2011) (NME AD Assessment); see also the “Assessment Rates” section, below.

The China-Wide Entity

Commerce's policy regarding conditional review of the China-wide entity applies to this administrative review.¹³ Under this policy, the China-wide entity will not be under review unless a party specifically requests, or Commerce self-initiates, a review of the entity. Because no party requested a review of the China-wide entity, the entity is not under review, and the entity's rate (i.e., 112.01 percent) ¹⁴ is not subject to change.

¹³ See Antidumping Proceedings: Announcement of Change in Department Practice for Respondent Selection in Antidumping Duty Proceedings and Conditional Review of the Nonmarket Economy Entity in NME Antidumping Duty Proceedings, 78 FR 65963 (November 4, 2013).

¹⁴ See Order, 85 FR at 43816.

Disclosure

Normally, Commerce will disclose to the parties in a proceeding the calculations performed in connection with the preliminary results within five days of any public announcement or, if there is no public announcement, within five days of the date of publication of the notice of the preliminary results in the Federal Register, in accordance with 19 CFR 351.224(b). However, because Commerce is rescinding the review for five companies and preliminarily finding that Best Nail/Shaoxing Bohui made no shipments of subject merchandise during the POR, there are no calculations to disclose. Given these facts, there is no decision memorandum accompanying this notice.

Public Comment

Pursuant to 19 CFR 351.309(c), interested parties may submit case briefs to Commerce no later than 30 days after the date of publication of this notice.¹⁵ Rebuttal briefs, limited to issues raised in the case briefs, may be filed not later than five days after the date for filing case briefs.¹⁶ Interested parties who submit case briefs or rebuttal briefs in this proceeding must submit: (1) a table of contents listing each issue; and (2) a table of authorities.¹⁷

¹⁵ See 19 CFR 351.309(c); see also 19 CFR 351.303 (for general filing requirements).

¹⁶ See 19 CFR 351.309(d); see also Administrative Protective Order, Service, and Other Procedures in Antidumping and Countervailing Duty Proceedings, 88 FR 67069, 67077 (September 29, 2023) (APO and Service Final Rule).

¹⁷ See 19 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁸ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁹

¹⁸ We use the term “issue” here to describe an argument that Commerce would normally address in a comment of the Issues and Decision Memorandum.

¹⁹ See APO and Service Final Rule.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case briefs. An electronically filed hearing request must be received successfully in its entirety by Commerce's electronic records system, ACCESS, by 5 p.m. Eastern Time within 30 days after the date of publication of this notice.

Assessment Rates

For the companies for which this review is rescinded with these preliminary results, we will instruct CBP to assess antidumping duties on all appropriate entries at a rate equal to the cash deposit of estimated antidumping duties required at the time of entry, or withdrawal from warehouse, for consumption, during the period July 1, 2022, through June 30, 2023, in accordance with 19 CFR 351.212(c)(1)(i). We intend to issue assessment instructions to CBP for these companies no earlier than 35 days after the date of publication of this notice in the Federal Register.

In addition, if we continue to find no POR shipments of subject merchandise for Best Nail/Shaoxing Bohui in the final results, any suspended entries of subject merchandise associated with this company will be liquidated at the China-wide rate.²⁰ For this company, we intend to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

²⁰ See NME AD Assessment.

Notification to Importers

This notice also serves as a preliminary reminder to importers of their responsibility under 19 CFR 351.402(f) to file a certificate regarding the reimbursement of antidumping and/or countervailing duties prior to liquidation of the relevant entries during this POR. Failure to comply with this requirement could result in Commerce's presumption that reimbursement of antidumping and/or countervailing duties occurred and the subsequent assessment of doubled antidumping duties, and/or an increase in the amount of the antidumping duties by the amount of the countervailing duties.

Notification to Interested Parties

We are issuing and publishing these preliminary results in accordance with sections 751(a)(l) and 777(i)(l) of the Act, and 19 CFR 351.221(b)(4).

Dated: March 26, 2024.
Abdelali Elouaradia,
Deputy Assistant Secretary for Enforcement and Compliance.

[FR Doc. 2024-07011 Filed 4-2-24; 8:45 am]

BILLING CODE 3510-DS-P